NUCLEAR REGULATORY COMMISSION

[Docket Nos. 52-012 and 52-013; NRC-2008-0091]

In the Matter of Nuclear Innovation North America LLC, Combined Licenses for South Texas Project, Units 3 and 4; Notice of Hearing; Correction

AGENCY: Nuclear Regulatory Commission.

ACTION: Notice of hearing; correction.

SUMMARY: The U.S. Nuclear Regulatory Commission (NRC) is correcting a notice that was published in the Federal Register (FR) on October 13, 2015, regarding an evidentiary session to be held on November 19, 2015, to receive testimony and exhibits in the uncontested portion of this proceeding regarding the application of Nuclear Innovation North America LLC, for combined licenses to construct and operate two additional units (Units 3 and 4) at the South Texas Project Electric Generating Station site in Matagorda County near Bay City, Texas. This action corrects the start time of the hearing.

DATES: The correction is effective November 12, 2015. The hearing for the combined operating license for South Texas Project Generating Station will be held on November 19, 2015, beginning at 9:00 a.m. Eastern Time, at the Commission's headquarters in Rockville, Maryland. The hearing on these issues will continue on subsequent days, if necessary.

ADDRESSES: Please refer to Docket ID NRC-2008-0091 when contacting the NRC about the availability of information regarding this document. You may obtain publicly-available information related to this document using any of the following methods:

• Federal Rulemaking Web site: Go to http://www.regulations.gov and search for Docket ID NRC-2008-0091. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Glenn Ellmers, Office of the Secretary, U.S. Nuclear Regulatory Commission, Washington, DC 20555-0001, telephone: 301-415-0442; email: Glenn.Ellmers@nrc.gov.

SUPPLEMENTARY INFORMATION: In the FR on October 13, 2015, in FR Doc. 2015-25892 on page 61492, in the third column, in the first sentence of the DATES section, correct “8:30 a.m.” to read “9:00 a.m.” In the same notice, on page 61493, in the first column under the “Evidentiary Uncontested Hearing” heading, correct “8:30 a.m.” to read “9:00 a.m.”

Dated at Rockville, Maryland, this 5th day of November, 2015.
For the Nuclear Regulatory Commission.
Annette L. Vietti-Cook,
Secretary of the Commission.

[FR Doc. 2015-28767 Filed 11-10-15; 8:45 am]

BILLING CODE 7590-01-P